DEPARTMENT OF HOUSING AND URBAN DEVELOPMENT

[Docket No. FR-7060-N-01]

60-Day Notice of Proposed Information Collection: Manufactured Housing Survey; OMB Control No.: 2528-0029

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 10, 2022.

ADDRESSES: Interested persons are invited to submit comments regarding this proposal. Comments should refer to the proposal by name and/or OMB Control Number and should be sent to: Anna P. Guido, Reports Management Officer, QDAM, Department of Housing and Urban Development, 451 7th Street SW, Room 4176, Washington, DC 20410-5000; telephone 202-402-5534 (this is not a toll-free number) or email at Anna.P.Guido@hud.gov for a copy of the proposed forms or other available information.

FOR FURTHER INFORMATION CONTACT: Anna P. Guido, Reports Management Officer, QDAM, Department of Housing and Urban Development, 451 7th Street SW, Washington, DC 20410; email Anna P. Guido at Anna.P.Guido@hud.gov or telephone 202-402-5535. This is not a toll-free number. Persons with hearing or speech impairments may access this number through TTY by calling the toll-free Federal Relay Service at (800) 877-8339.

Copies of available documents submitted to OMB may be obtained from Ms. Guido.

SUPPLEMENTARY INFORMATION: This notice informs the public that HUD is seeking approval from OMB for the information collection described in Section A.

A. Overview of Information Collection

Title of Information Collection: Manufactured Housing Survey.

OMB Approval Number: 2528-0029.

Type of Request: Extension of a currently approved collection.

Form Number: C-MH-9A.

Description of the need for the information and proposed use: The Manufactured Housing Survey collects data monthly on the characteristics of newly manufactured homes placed for residential use. Key data collected includes sales price and the number of units placed and sold. A letter is sent to the dealer—4 months after the—shipment date. Other selected housing characteristics collected include size, location, and titling. HUD uses the statistics to respond to a Congressional mandate in the Housing and Community Development Act of 1980, 42 U.S.C. 5424 note, which authorizes HUD to use its discretion to take actions necessary ensure that the public is fully aware of the distinctions between the various types of manufactured housing. Accordingly, HUD collects, reports manufactured home sales, and price information for the nation, census regions, states, and selected metropolitan areas and monitors whether new manufactured homes are being placed on owned rather than rented lots. HUD also used these data to monitor total housing production and its affordability. Furthermore, the Manufactured Housing Survey serves as the basis for HUD's mandated indexing of loan limits. Section 2145(b) of the Housing and Economic Recovery Act of 2008 (HERA), Public Law 110-289, 122 Stat. § 2844-2845, requires HUD to develop a method of indexing to annually adjust Title I manufactured home loan limits. This index is based on manufactured housing price data collected by -the United States Census Bureau using this survey. Section 2145(b) of the Housing and Economic Recovery Act of 2008 (HERA), Public Law 110-289, 122 Stat. § 2844-2845 also amends the maximum loan limits for manufactured home loans insured under Title I. In Title I Letter TI-480, HUD implemented the revised loan limits, as shown below, for all manufactured home loans for which applications are received on or after March 3, 2009.

Loan type | Purpose | Old loan limit | New loan limit
MANUFACTURED HOME IMPROVEMENT LOAN | For financing alterations, repairs and improvements upon or in connection with existing manufactured homes | $17,500 | $25,090
MANUFACTURED HOME UNIT(S) | To purchase or refinance a Manufactured Home unit(s) | 48,600 | 69,678
LOT LOAN | To purchase and develop a lot on which to place a manufactured home unit | 16,200 | 23,226
COMBINATION LOAN FOR LOT AND HOME | To purchase or refinance a manufactured home and lot on which to place the home | 64,800 | 92,904

Method of Collection: The methodology for collecting information on new manufactured homes involves contacting dealers from a monthly sample of new manufactured homes shipped by manufacturers. The units are sampled from lists obtained from the Institute for Building Technology and Safety. A file of all manufactured homes sections shipped during the month is provided to the Census Bureau by the Institute for Building Technology and Safety (IBTS) on a monthly basis. Dealers that take shipment of the selected homes are mailed a survey form four months after shipment for recording the status of the manufactured home.

Respondents: Business firms or other for-profit institutions.

Respondent's Obligation: Voluntary.

Estimated Number of Respondents: 4,860.

Frequency of Response: Once.

Average Hours per Response: 20 minutes per response (.33 hour).

Estimated Total Annual Burden Hours: 1,620.

Hourly Cost per Response: $31.45 (hourly rate for typical respondent: Occupational code 41-4010: Sales Representatives, Wholesale and Manufacturing).

Estimated Total Annual Cost: $50,949. (This is not a direct financial cost of respondents' time, but rather the associated cost burden of the respondents' voluntary responses.)

Total Estimated Burdens
Information collection | Number of respondents | Frequency of response | Responses per annum | Burden hour per response | Annual burden hours | Hourly cost per response | Annual cost
Manufactured Housing Survey | 4,860.00 | 1.00 | 4,860.00 | 0.33 | 1,620 | $31.45 | $50,949.00
Total | 4,860.00 |  |  |  | 1,620 |  | 50,949.00

B. Solicitation of Public Comment

This notice is soliciting comments from members of the public and affected parties concerning the collection of information described in Section A on the following:

(1) Whether the proposed collection of information is necessary for the proper performance of the functions of the agency, including whether the information will have practical utility,

(2) The accuracy of the agency's estimate of the burden of the proposed collection of Information,

(3) Ways to enhance the quality, utility, and clarity of the information to be collected; and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. Chapter 35 and Title 42 U.S.C. 5424 note, Title 13 U.S.C. Section 8(b), and Title 12, U.S.C., Section 1701z-1.

Todd M. Richardson,
General Deputy Assistant Secretary for Policy Development and Research.

[FR Doc. 2022-05184 Filed 3-10-22; 8:45 am]

BILLING CODE 4210-67-P